DEPARTMENT OF HEALTH AND HUMAN SERVICES

Centers for Disease Control and Prevention

Government-owned Inventions; Availability for Licensing and Cooperative Research and Development Agreements (CRADAs)

AGENCY: National Institute for Occupational Safety and Health, Centers for Disease Control and Prevention, Technology Transfer Office, Department of Health and Human Services.

ACTION: Notice.

SUMMARY: The invention named in this notice is owned by agencies of the United States Government and is available for licensing in the United States (U.S.) in accordance with 35 U.S.C. 207, and is available for cooperative research and development agreements (CRADAs) in accordance with 15 U.S.C. 3710, to achieve expeditious commercialization of results of federally funded research and development. U.S. and foreign patent applications are expected to be filed in the near future, to extend market coverage for U.S. companies, and may also be available for licensing.

ADDRESSES: Licensing information may be obtained by writing to Suzanne Seavello Shope, J.D., Technology Licensing and Marketing Scientist, Technology Transfer Office, Centers for Disease Control and Prevention (CDC), Mailstop K-79, 4770 Buford Highway, Atlanta, GA 30341, telephone (770) 488-8613; facsimile (770) 488-8615; e-mail sshope@cdc.gov. CRADA information, and information related to the technology listed below, may be obtained by writing to Kathleen Goedel, Program Analyst, Technology Transfer Office, National Institute for Occupational Safety and Health (NIOSH), Centers for Disease Control and Prevention (CDC), mailstop R-6, 4676 Columbia Parkway, Cincinnati, OH 45226, telephone (513) 841-4560; facsimile (513) 458-7170; or e-mail kgoedel@cdc.gov. A signed Confidential Disclosure Agreement (available under Forms at http://www.cdc.gov/tto) will be required to receive copies of unpublished patent applications and other information.

Occupational Safety

Cleansing and Removal Method and Technique for Lead Contaminated Dermal Surfaces

Workplace exposure to toxic metals, (i.e., lead, cadmium, and arsenic) can cause systemic poisoning and are a recognized health threat to thousands of workers in numerous industries. A potentially significant, but often overlooked risk for exposures is hand-to-mouth transfer due to contaminated hands. Other metals of concern include chromium and nickel, which are potential skin sensitizers that can have significant and long-term health consequences for those affected. Prevention of skin exposures should be the primary course of action, but effective removal of metals from skin becomes necessary when dermal exposures cannot be completely controlled, and when the efficacy of handwashing is questionable.

NIOSH/CDC researchers have developed a novel handwipe system for removal of certain toxic metals from the skin. Preliminary research shows that this new approach is highly effective and performs better than traditional handwashing (soap and water) as well as better than other commercial handwashing products. The new method is easy to use and inherently safe to both the user and the environment and has been submitted for patent protection.

CDC/NIOSH is soliciting for a Cooperative Research and Development Agreement (CRADA) partner to refine development of this new skin cleanser and to license and commercialize the final product. Preferred partners will have the ability to conduct testing to verify the safety of regular repeated use through a battery of clinical and instrumental test procedures aimed at determining skin compatibility. Testing trials to assess user acceptance and laboratory evaluations to determine product stability are also requested. Preferred partners should also be able to propose recommendations to the basic formulation for enhancements to user acceptance and final packaging of the end product. Preferred partners will have a strong market share and a demonstrated business network capable of effective dissemination of the final product.

Patent applications will be filed on new intellectual property resulting from the CRADA. The CRADA partner will have an option to exclusively license any rights NIOSH/CDC may have in the new technology.

Inventors: Esswein, Eric et al.

U.S. Patent Application SN: Not yet filed. (CDC Ref. #: I-028-03).

Dated: August 23, 2004.
James D. Seligman,
Associate Director for Program Service, Centers for Disease Control and Prevention.

[FR Doc. 04-19702 Filed 8-27-04; 8:45 am]

BILLING CODE 4163-18-P